Title 3—

The President

Proclamation 9675 of November 10, 2017

American Education Week, 2017

By the President of the United States of America

A Proclamation

During American Education Week, we recognize that the foundation of the American Dream is a quality education that instills lifelong skills and develops strong character. All our Nation's children deserve the chance to be successful, to live fulfilling lives, and to give back to our communities. As parents, teachers, and advocates, we recommit to ensuring that all children in America have a meaningful opportunity to harness their full potential.

Parents and guardians are the best advocates for their children's success. Through engagement with teachers and local school boards, parents have the power to shape their children's education. The importance of family and community involvement is why I signed an Executive Order earlier this year to protect and preserve State and local control over the curriculum, administration, and personnel of our country's schools. Moreover, we must protect parents' access to a wide range of high-quality educational choices, including strong public, charter, magnet, private, online, parochial, and homeschool options. Each child is precious and unique, and we must enable our communities to provide a range of schooling options, which will allow students to thrive and prepare them to be successful in adulthood.

My Administration understands that the quality of our Nation's education shapes our future. We must equip students with the tools and skills they need to succeed in the workforce of tomorrow. In September, I directed the Department of Education to prioritize increasing high-quality education programs in science, technology, engineering, and mathematics for students across our Nation. Additionally, I signed an Executive Order to make it easier for companies to provide much needed apprenticeship programs. By promoting lifelong learning and continuing to ensure relevant postsecondary education is more accessible to students, we can help all Americans achieve their dreams.

This week, we also reiterate the vital importance of family involvement in education. Whether that means checking homework, setting high expectations, or establishing healthy evening and morning routines, schools rely on families to accelerate student achievement. When families devote time and effort to their children's education, students earn higher grades, have more positive attitudes about school and homework, and are more likely to graduate. There can be no greater investment than into the success of our children.

As we celebrate American Education Week, we are reminded of the vital importance of education for our children, for our communities, and for our world. Education unlocks a world of opportunity, something every American deserves.

NOW, THEREFORE, I, DONALD J. TRUMP, President of the United States of America, by virtue of the authority vested in me by the Constitution and the laws of the United States, do hereby proclaim November 12 through November 18, 2017, as American Education Week. I commend our Nation's schools, their teachers and leaders, and the parents of students across this land. And I call on States and communities to support high-quality education to meet the needs of all students.

IN WITNESS WHEREOF, I have hereunto set my hand this tenth day of November, in the year of our Lord two thousand seventeen, and of the Independence of the United States of America the two hundred and forty-second.

[FR Doc. 2017-25242

Filed 11-17-17; 11:15 am]

Billing code 3295-F8-P